DEPARTMENT OF COMMERCE

National Oceanic and Atmospheric Administration

RIN 0648-XV043

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) Committee will hold a meeting.

DATES: The meeting will be held on Thursday, September 19, 2019, from 10 a.m. to 5 p.m. and Friday, September 20, 2019, from 8:30 a.m. to 12 noon. See SUPPLEMENTARY INFORMATION for agenda details.

ADDRESSES: The meeting will take place at the Hyatt Place Inner Harbor, 511 South Central Avenue, Baltimore, MD 21202; telephone: (410) 558-1840.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of the meeting is for the EOP Committee to review and provide feedback on a draft summer flounder conceptual model, data availability and draft management questions that could be explored with the conceptual model. This process and review is part of the Council's Ecosystem Approach to Fisheries Management decision framework in which the Council agreed to pilot the development of a summer flounder conceptual model that will consider the high priority risk factors affecting summer flounder and its fisheries. In addition, the Committee may take up any other business as necessary.

A detailed agenda and any pertinent background documents will be made available on the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: August 22, 2019.
Tracey L. Thompson,
Acting Deputy Director, Office of Sustainable Fisheries, National Marine Fisheries Service.

[FR Doc. 2019-18465 Filed 8-26-19; 8:45 am]

BILLING CODE 3510-22-P